DEPARTMENT OF COMMERCE

International Trade Administration

[C-570-984]

Drawn Stainless Steel Sinks From the People's Republic of China: Preliminary Results of Countervailing Duty Administrative Review, Rescission in Part, and Intent To Rescind the Review in Part; 2012-2013

AGENCY: Enforcement and Compliance, International Trade Administration, Department of Commerce.

SUMMARY: The Department of Commerce (the Department) is conducting an administrative review of the countervailing duty (CVD) order on drawn stainless steel sinks (sinks) from the People's Republic of China (PRC). The period of review (POR) is August 6, 2012, through December 31, 2013. We preliminarily find that Guangdong Dongyuan Kitchenware Industrial Co., Ltd. (Dongyuan) received countervailable subsidies during the POR. We are rescinding the review with respect to Foshan Zhaoshun Trade Co., Ltd. (Zhaoshun), Zhongshan Superte Kitchenware Co., Ltd. (Superte), Zhongshan Newecan Enterprise Development Corporation Limited (Newecan), Zhongshan Silk Imp. & Exp. Group Co., Ltd. of Guangdong (Zhongshan Silk). Further, we preliminarily find that Shunde Native Produce Import and Export Co., Ltd. of Guangdong (Native Produce) did not have any reviewable entries during the POR. Interested parties are invited to comment on these preliminary results.

DATES: Effective Date: May 7, 2015.

FOR FURTHER INFORMATION CONTACT: Jennifer Meek or Joshua Morris, AD/CVD Operations, Office I, Enforcement and Compliance, International Trade Administration, U.S. Department of Commerce, 14th Street and Constitution Avenue NW., Washington, DC 20230; telephone: (202) 482-2778 and (202) 482-1779, respectively.

Scope of the Order

Drawn stainless steel sinks are sinks with single or multiple drawn bowls, with or without drain boards, whether finished or unfinished, regardless of type of finish, gauge, or grade of sinks. The products covered by this order are currently classified in the Harmonized Tariff Schedule of the United States (HTSUS) under statistical reporting number 7324.10.0000. Although the HTSUS subheading is provided for convenience and customs purposes, the written description of the scope of the order is dispositive.

A full description of the scope of the order is contained in the memorandum from Christian Marsh, Deputy Assistant Secretary for Enforcement and Compliance, to Paul Piquado, Assistant Secretary for Enforcement and Compliance, “Decision Memorandum for Preliminary Results of Countervailing Duty Administrative Review: Drawn Stainless Steel Sinks from the People's Republic of China” dated concurrently with this notice (Preliminary Decision Memorandum), which is hereby adopted by this notice. A list of topics discussed in the Preliminary Decision Memorandum is provided as Appendix I to this Notice.

The Preliminary Decision Memorandum is a public document and is on file electronically via Enforcement and Compliance's Antidumping and Countervailing Duty Centralized Electronic Service System (ACCESS). ACCESS is available to registered users at http://access.trade.gov and in the Central Records Unit, room 7046 of the main Department of Commerce building. In addition, a complete version of the Preliminary Decision Memorandum can be accessed directly on the internet at http://enforcement.trade.gov/frn/index.html. The signed Preliminary Decision Memorandum and the electronic version of the Preliminary Decision Memorandum are identical in content.

Methodology

The Department conducted this review in accordance with section 751(a)(1)(A) of the Tariff Act of 1930, as amended (the Act). For each program found countervailable, we preliminarily determine that there is a subsidy, i.e., a government-provided financial contribution that gives rise to a benefit to the recipient, and that the subsidy is specific.¹

¹ See sections 771(5)(B) and (D) of the Act regarding financial contribution; section 771(5)(E) of the Act regarding benefit; and section 771(5A) of the Act regarding specificity.

In making the preliminary findings, we relied, in part, on facts available and, because the Government of the PRC did not act to the best of its ability to respond to the Department's requests for information, we applied an adverse inference in selecting from among the facts otherwise available.² For a full description of the methodology underlying our conclusions, see the Preliminary Decision Memorandum.

² See sections 776(a) and (b) of the Act. For further information, see “Use of Facts Otherwise Available and Adverse Inferences” in the Preliminary Decision Memorandum.

Partial Rescission

As discussed in the Preliminary Decision Memorandum, the companies Zhaoshun, Superte, Newecan, and Zhongshan Silk timely withdrew their requests for administrative review of themselves.³ No other parties requested reviews of these companies. The Department, pursuant to 19 CFR 351.213(d)(1), is therefore rescinding this administrative review with respect to Zhaoshun, Superte, Newecan, and Zhongshan Silk.⁴

³ As noted in the Preliminary Decision Memorandum, Native Produce also submitted a withdrawal of its request for review. It did so, however, after the 90-day deadline pursuant to 19 CFR 351.213(d)(1) and was, therefore, untimely.

⁴ See Appendix II for the full list of companies for which this review is being rescinded.

Preliminary Determination of No Shipments and Intent To Rescind the Review in Part

Based on our analysis of U.S. Customs and Border Protection (CBP) information and information provided by Native Produce, we preliminarily determine that Native Produce did not have any reviewable entries during the POR. Absent any evidence of shipments being placed on the record, pursuant to 19 CFR 351.213(d)(3), in the final results, we intend to rescind the administrative review of this company. For additional information regarding this determination, see the Preliminary Decision Memorandum.

Preliminary Results of the Review

In accordance with 19 CFR 351.221(b)(4)(i), we calculated an individual subsidy rate for Dongyuan for the period August 6, 2012, through December 31, 2013. We calculated a rate for 2012, which will be applicable to entries made during the period August 6, 2012, through December 31, 2012, and a rate for 2013, which will be applicable to entries during the period January 1, 2013, through December 31, 2013. We preliminarily find that the net subsidy rates for Dongyuan are as follows:

Company | Subsidy rate (percent) 2013 | Subsidy rate (percent) 2012
Guangdong Dongyuan Kitchenware Industrial Co., Ltd | 9.83 | 3.91

Disclosure and Public Comment

The Department intends to disclose calculations performed for these preliminary results to the parties within five days of the date of publication of this notice.⁵ Interested parties may submit case briefs no later than 30 days after the day on which these preliminary results are published in the Federal Register.⁶ Rebuttal briefs, which must be limited to issues raised in case briefs, may be submitted by no later than five days after the deadline for case briefs.⁷ Parties who submit case briefs or rebuttal briefs in this proceeding should submit with each argument: (1) A statement of the issue; (2) a brief summary of the argument; and (3) a table of authorities.⁸ The summary of the argument should be limited to five pages total, including footnotes.

⁵ See 19 CFR 351.224(b).

⁶ See 19 CFR 351.309(c)(1)(ii).

⁷ See 19 CFR 351.309(d).

⁸ See 19 CFR 351.309(c)(2) and (d)(2).

Interested parties who wish to request a hearing, or to participate if one is requested, must submit a written request to the Assistant Secretary for Enforcement and Compliance, U.S. Department of Commerce within 30 days after the date of publication of this notice.⁹ Requests should contain the party's name, address, and telephone number, the number of participants, and a list of the issues to be discussed. If a request for a hearing is made, the Department intends to hold the hearing at the U.S. Department of Commerce, 14th Street and Constitution Avenue NW., Washington, DC 20230, on a date and at a time and location to be determined. Parties should confirm by telephone the date, time, and location of the hearing two days before the scheduled date.

⁹ See 19 CFR 351.310(c).

All submissions, with limited exceptions, must be filed electronically using ACCESS.¹⁰ An electronically filed documents must be received successfully in their entirety by the Department's electronic records system, ACCESS, by 5 p.m. Eastern Time (ET) on the due date. Documents excepted from the electronic submission requirements must be filed manually (i.e. in paper form) with the APO/Dockets Unit in Room 18022 and stamped with the date and time of receipt by 5 p.m. ET on the due date.¹¹

¹⁰ See generally 19 CFR 351.303.

¹¹ See Antidumping and Countervailing Duty proceedings: Electronic Filing Procedures; Administrative Protective Order Procedure, 76 FR 39263 (July 6, 2011).

Unless the deadline is extended pursuant to section 751(a)(3)(A) of the Act, the Department will issue the final results of this administrative review, including our analysis of and responses to issues raised by the parties in their comments, within 120 days after issuing these preliminary results.

Assessment Rates

In accordance with 19 CFR 351.221(b)(4)(i), we assigned a subsidy rate for the producer/exporter subject to this administrative review. Upon issuance of the final results, the Department shall determine, and CBP shall assess, countervailing duties on all appropriate entries covered by this review. We intend to issue instructions to CBP 15 days after publication of the final results of this review.

For the rescinded companies, countervailing duties shall be assessed at rates equal to the cash deposit of estimated countervailing duties required at the time of entry, or withdrawal from warehouse, for consumption, during the period August 6, 2012, through December 31, 2013, in accordance with 19 CFR 351.212(c)(1)(i). The Department intends to issue appropriate assessment instructions directly to CBP 15 days after publication of this notice.

Cash Deposit Requirements

Also in accordance with section 751(a)(2)(C) of the Act, the Department intends to instruct CBP to collect cash deposits of estimated countervailing duties in the amount shown above for Dongyuan, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results are issued and published in accordance with sections 751(a)(1) and 777(i) of the Act and 19 CFR 351.213 and 351.221(b)(4).

Dated: April 30, 2015.
Paul Piquado,
Assistant Secretary for Enforcement and Compliance.

Appendix I—List of Topics Discussed in the Preliminary Decision Memorandum

1. Summary

2. Background

3. Scope of the Order

4. Partial Rescission of the Administrative Review

5. Intent to Rescind, in Part, the Administrative Review

6. Use of Facts Otherwise Available and Adverse Inferences

7. Subsidy Valuation Information

8. Analysis of Programs

9. Recommendation

Appendix II—Companies for Which the Review Is Rescinded

1. Foshan Zhaoshun Trade Co., Ltd.

2. Zhongshan Superte Kitchenware Co., Ltd.

3. Zhongshan Silk Imp. & Exp. Group Co., Ltd. of Guangdong

4. Zhongshan Newecan Enterprise Development Corporation Limited

[FR Doc. 2015-11088 Filed 5-6-15; 8:45 am]

BILLING CODE 3510-DS-P